SECURITIES AND EXCHANGE COMMISSION

[Release No. 34-103497A; File No. 4-858]

Program for Allocation of Regulatory Responsibilities Pursuant to Rule 17d-2; Order Approving and Declaring Effective a Proposed Plan for the Allocation of Regulatory Responsibilities Between the Financial Industry Regulatory Authority, Inc. and Green Impact Exchange, LLC; Correction

AGENCY: Securities And Exchange Commission.

ACTION: Notice; correction.

SUMMARY: The Securities and Exchange Commission published a document in the Federal Register on July 23, 2025, concerning an Order Approving and Declaring Effective a Proposed Plan for the Allocation of Regulatory Responsibilities Between the Financial Industry Regulatory Authority, Inc. and Green Impact Exchange, LLC. The document contained typographical errors in the title and text.

FOR FURTHER INFORMATION CONTACT: Naomi P. Lewis, Securities and Exchange Commission, 100 F Street NE, Washington, DC 20549, (202) 551-5400.

Correction

In the Federal Register of July 23, 2025, in FR Doc. 2025-13807, on page 34696, the title was incorrect and reads as shown above. In addition, on page 34696, in the first column, on the 43rd and 44th lines, on the 15th and 16th lines under the heading “SECURITIES AND EXCHANGE COMMISSION” correct the reference to “GIX National Exchange LLC” instead to “Green Impact Exchange, LLC.”

Dated: August 5, 2025.
Sherry R. Haywood,
Assistant Secretary.

[FR Doc. 2025-15066 Filed 8-7-25; 8:45 am]

BILLING CODE 8011-01-P